ENVIRONMENTAL PROTECTION AGENCY

[ER-FRL-6625-8]

Environmental Impact Statements; Notice of Availability

Responsible Agency: Office of Federal Activities, General Information (202) 564-7167 or www.epa.gov/oeca/ofa.

Weekly receipt of Environmental Impact Statements

Filed January 14, 2002 Through January 18, 2002

Pursuant to 40 CFR 1506.9.

EIS No. 020022, FINAL EIS, AFS, MT, Dry Fork Vegetation Restoration Project, To Improve Forest and Watershed Health and Sustainability, King Hill Ranger District, Lewis and Clark National Forest, Cascade and Judith Basin Counties, MT, Wait Period Ends: February 25, 2002, Contact: Jennifer Johnsten (406) 791-7765.

EIS No. 020023, DRAFT SUPPLEMENT, AFS, ID, North Lochsa Face Ecosystem Management Project, Updated Information on the Potential Effects of the Vegetation and Aquatic Restoration, Clearwater National Forest, Lochsa Ranger District, Idaho County, ID, Comment Period Ends: March 11, 2002, Contact: Lois Foster (208) 935-4258.

EIS No. 020024, DRAFT EIS, BLM, OR, Coos County Natural Gas Transmission Pipeline, Construction, Operation and Maintenance, Proposed Natural Gas Pipeline from Roseburg to Coos Bay, Right-of-Way Permit, Coos Bay District, Coos County, OR, Comment Period Ends: March 26, 2002, Contact: Bob Gunther (541) 751-4295. This document is available on the Internet at: (www.or.blm.gov/coosbay) and (http://www.co.coos.or.us).

EIS No. 020025, FINAL EIS, AFS, ID, West Fork Potlatch Timber Harvesting, Road Construction, Reforestation and Watershed Restoration, Palouse Ranger District, Latah County, ID, Wait Period Ends: February 25, 2002, Contact: Larry W. Ross (208) 875-1131.

EIS No. 020026, DRAFT EIS, FRC, ID, Four Mid-Snake River Hydroelectric Projects, Applications for New License for the Existing Projects: Shoshane Falls-FERC No. 2778, Upper Salmon Falls-FERC No. 2777, Lower Salmon Falls-FERC No. 2061 and Bliss-FERC No. 1975, Snake River, ID, Comment Period Ends: March 26, 2002, Contact: John Blair (202) 219-2845. This document is available on the Internet at: http://www.ferc.gov/hydro/hydro2.htm.

EIS No. 020027, FINAL EIS, AFS, ID, Little Blacktail Ecosystem Restoration Project, Health and Productivity of Terrestrial and Aquatic Habitats Improvement, Implementation, Idaho Panhandle National Forests, Sandpoint Ranger District,Bonner County, ID, Wait Period Ends: February 25,2002, Contact: Nancy Kertis (208) 263-5111.This document is available on the Internet at: http:/www.fs.fed.us/ipnf/eco/manage/nepa/index.html.

EIS No. 020028, DRAFT EIS, NRS, OK, Lower Clear Boggy Creek Watershed Project, Floodwater Retarding Structure (FWRS) Site 32B Construction,Atoka County, OK, Comment Period Ends: March 11,2002, Contact: M. Darrel Dominick (405) 742-1227.

EIS No. 020029, FINAL EIS, USN, HI, Programmatic EIS—Ford Island Development Program, Proposed Consolidation of Selected Operations at Pearl Harbor by Locating and Relocating Certain Activities, Ford Island, HI, Wait Period Ends:February 25, 2002, Contact: Stanley Uehara(808) 474-5909.

EIS No. 020030, DRAFT EIS, IBR, CA, Imperial Irrigation District Water Conservation and Transfer Project and Draft Habitat Conservation Plan (HCP), To Implement a Grant and Section 10 Permit to Authorize the Incidental Take, Colorado River, Imperial County, CA, Comment Period Ends:April 26, 2002, Contact: Bruce Ellis (602) 216-3854.This document is available on the Internet at: www.is.ch2m.com/iidweb.

Amended Notices

EIS No. 010541, DRAFT EIS, COE, TX, Texas City's Proposed Shoal Point Container Terminal Project,Containerized Cargo Gateway Development, US Army COE Section 404 and 10 Permits Issuance, Material Placement Area (DMPA), City of Texas, Galveston County, TX, Comment Period Ends: February 19, 2002,Contact: Sharon Manella Tirpak (409) 766-3136.Published FR 01-04-02 Correction to Contact Person telephone number.

EIS No. 020017, DRAFT EIS, BLM, WY, Powder River Basin Oil and Gas Project, To Extract, Transport, and Sell Oil and Natural Gas Resource,Application of Permit to Drill (APD), Special Use Permit and Right-of-Way Grant, Campbell,Converse, Johnson and Sheridan Counties, WY ,Comment Period Ends: April 18, 2002, Contact:Paul Beels (307) 684-1100.Published FR 01-18-02—Correction to Website Address.This document is available on the Internet at: www.wy.blm.gov.

Dated: January 22, 2002.
Joseph C. Montgomery,
Director, NEPA Compliance Division, Office of Federal Activities.

[FR Doc. 02-1884 Filed 1-24-02; 8:45 am]

BILLING CODE 6560-50-U